DEPARTMENT OF TRANSPORTATION

Federal Motor Carrier Safety Administration

49 CFR Part 393

[Docket No. FMCSA-99-6266]

RIN 2126-AA46

Brake Performance Requirements for Commercial Motor Vehicles Inspected by Performance-Based Brake Testers

Correction

In rule document 02-20248 beginning on page 51770 in the issue of Friday, August 9, 2002, make the following correction:

On page 51770, in the second column, under the DATES section, in the second line, “February 5, 2002” should read “February 5, 2003”.

[FR Doc. C2-20248 Filed 8-13-02; 8:45 am]

BILLING CODE 1505-01-D